DEPARTMENT OF COMMERCE

International Trade Administration

[A-570-848]

Freshwater Crawfish Tail Meat from the People's Republic of China; Notice of Final Results of Antidumping Duty Administrative Review

AGENCY: Import Administration, International Trade Administration, U.S. Department of Commerce.

SUMMARY: On October 16, 2002, the Department of Commerce (the Department) published the preliminary results of its administrative review of the antidumping duty order on freshwater crawfish tail meat from the People's Republic of China (PRC). See Freshwater Crawfish Tail Meat from the People's Republic of China: Notice of Preliminary Results of Antidumping Duty Administrative Review, 67 FR 63877 (October 16, 2002) (Preliminary Results). The administrative review covers the period September 1, 2000, through August 31, 2001.

Based on our analysis of the comments received, we have made changes to our analysis. Therefore, the final results differ from the Preliminary Results. The final weighted-average dumping margins for the reviewed firms are listed below in the section entitled “Final Results of Review.”

EFFECTIVE DATE: April 21, 2003.

FOR FURTHER INFORMATION CONTACT: Elfi Blum or Doug Campau, Office of Antidumping/Countervailing Duty Enforcement VII, Import Administration, International Trade Administration, U.S. Department of Commerce, 14th Street and Constitution Avenue, NW, Washington DC 20230; telephone (202) 482-0197 or (202) 482-1395, respectively.

SUPPLEMENTARY INFORMATION:

Background

On October 16, 2002, the Department published the preliminary results of its administrative review of the antidumping duty order on freshwater crawfish tail meat from the PRC. See Preliminary Results. The administrative review covers the period September 1, 2000, through August 31, 2001. The review covers the following companies: China Kingdom Import & Export Co., Ltd. (China Kingdom); Fujian Pelagic Fishery Group Co. (Fujian Pelagic); Qingdao Rirong Foodstuff Co., Ltd., aka Qingdao Rirong Foodstuffs (Qingdao Rirong); Qingdao Zhengri Seafood Co., Ltd./Yancheng Yaou Seafood Co., Ltd. (Qingdao Zhengri/Yancheng Yaou); Shantou SEZ Yangfeng Marine Products Co. (Shantou SEZ); Suqian Foreign Trade Corp., aka Suqian Foreign Trading (Suqian Foreign Trade); Yancheng Foreign Trade Corp., aka Yancheng Foreign Trading, aka Yang Cheng Foreign Trading (Yancheng Foreign Trade); and Yangzhou Lakebest Foods Co., Ltd. (Yangzhou Lakebest).

Since the publication of the Preliminary Results, the following events have occurred. Based on new information obtained by the Department through public sources, the Department issued an additional supplemental questionnaire to Qingdao Rirong on October 24, 2002. Qingdao Rirong responded to the Department's questionnaire on November 4, 2002. On November 15, 2002, we received timely filed case briefs from the Crawfish Processors Alliance, its members (together with the Louisiana Department of Agriculture and Forestry, Bob Odom, Commissioner), and the Domestic Parties (collectively, the Domestic Interested Parties); and China Kingdom and Qingdao Zhengri/Yancheng Yaou, and on November 20, 2002, we received timely filed rebuttal briefs from the Domestic Interested Parties with respect to China Kingdom and Qingdao Zhengri/Yancheng Yaou, and from Qingdao Rirong. On December 31, 2002, the Department released to the interested parties for comment the Memorandum from Elfi Blum and Scot Fullerton, Case Analysts, through Maureen Flannery, Program Manager, Office of AD/CVD Enforcement VII, to Barbara Tillman, Director, Office of AD/CVD Enforcement VII: Freshwater Crawfish Tail Meat from the People's Republic of China for the period of September 1, 2000, through August 31, 2001 (A-570-848): Analysis of Relationship between Qingdao Rirong Foodstuff Co., Ltd., and Y&Z International Trade Inc., dated December 31, 2002 (Affiliation Memo). We received comments on the & from Qingdao Rirong on January 14, 2003 and, after approving an extension for rebuttal comments, we received rebuttal comments from the Domestic Interested Parties on January 27, 2003.

On February 7, 2003, the Department extended the time limit for the completion of these final results to April 14, 2003. See Freshwater Crawfish Tail Meat from the People's Republic of China: Extension of Time Limit for Final Results of Administrative Antidumping Review, 68 FR 7345 (February 13, 2002). The Department has now completed this review in accordance with section 751 of the Tariff Act of 1930, as amended (the Act).

Due to issues concerning the proprietary treatment of information placed on the record of this review by the Department and in response to that information submitted by Qingdao Rirong, and concerning new factual information submitted in the Domestic Interested Parties' case brief, the Department requested the Domestic Interested Parties to re-file their case brief with respect to Qingdao Rirong, and Qingdao Rirong to re-file its rebuttal brief. In addition, the Department requested that both parties re-file their comments to the Affiliation Memo. Further, due to issues concerning new factual information submitted in China Kingdom's case brief, the Department requested China Kingdom to re-file its case brief. Final corrected versions of the case briefs from the Domestic Interested Parties with respect to Qingdao Rirong, and from China Kingdom were received on April 10, 2003 and February 20, 2003, respectively. A final corrected version of Qingdao Rirong's rebuttal brief was filed on April 10, 2003. A final corrected version of the comments to the Affiliation Memo from Domestic Interested Parties was received on April 10, 2003, and amendments to Qingdao Rirong's comments were received on January 24 and February 3, 2003.

Scope of the Antidumping Duty Order

The product covered by the antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10, 1605.40.10.90, 0306.19.00.10 and 0306.29.00.00. The HTS subheadings are provided for convenience and Customs purposes only. The written description of the scope of this order is dispositive.

Duty Absorption

On November 26, 2001, the Crawfish Processors Alliance timely requested that the Department determine whether antidumping duties had been absorbed during the period of review (POR), in accordance with section 751(a)(4) of the Act, and section 351.213(j)(1) of the Department's regulations. Section 751(a)(4) of the Act provides that, upon request during an administrative review initiated two or four years after the publication of the order, the Department must determine whether antidumping duties have been absorbed by a foreign producer or exporter, if the subject merchandise is sold in the United States through an affiliated importer. Because this review was initiated four years after the publication of the antidumping duty order, and a duty absorption determination was requested by the Crawfish Processors Alliance, we analyzed duty absorption in this segment of the proceeding.

On January 10, 2003, the Department requested the remaining eight companies subject to this review to place on the record evidence that unaffiliated purchasers will ultimately pay the antidumping duties to be assessed on entries during the review period. On January 21, 2003, six of these eight companies responded: Suqian Foreign Trade, Yangzhou Lakebest, Qingdao Zhengri/Yancheng Yaou, Qingdao Rirong, Fujian Pelagic, and China Kingdom. Suqian Foreign Trade, Yangzhou Lakebest, Qingdao Zhengri/Yancheng Yaou and Qingdao Rirong stated that they were not affiliated with their importer of record during the POR and thus had reported export price (EP) sales. Suqian Foreign Trade and Yangzhou Lakebest responded to the Department's initial questionnaire, but then failed to respond to the Department's supplemental questionnaires. Therefore, we are applying adverse facts available (AFA) to these two companies, as discussed in greater detail below in the “Application of Facts Available” section. Qingdao Zhengri/Yancheng Yaou refused to participate in the verification of Qingdao Zhengri, and we applied AFA to the combined entity. See “Application of Facts Available” section below. We have determined that Qingdao Rirong sold to the United States through an importer that is affiliated within the meaning of section 771(33) of the Act, and have applied AFA to Qingdao Rirong. See Memorandum from Doug Campau to Barbara E. Tillman, Freshwater Crawfish Tail Meat from the People's Republic of China (PRC): Treatment of Qingdao Rirong Foodstuff Co., Ltd. in the Final Results of the Administrative Review for the Period 9/1/00 - 8/31/01, dated April 9, 2003 (Qingdao Rirong Memo).

Two companies, China Kingdom and Fujian Pelagic, stated that they were affiliated with their importer of record during the POR. One of these companies, China Kingdom, reported constructed export price (CEP) sales in its response to the Department. Because China Kingdom failed to provide total production and factors of production for the relevant POR, we are applying AFA to the company, as discussed below in the “Application of Facts Available” section. Fujian Pelagic did not respond to any other of the Department's requests for information besides the duty absorption inquiry; we therefore are applying AFA to Fujian Pelagic, as discussed below in the “Application of Facts Available” section. On January 22, 2003, one company, Yancheng Foreign Trade, which did not respond at all in this proceeding except to the Department's duty absorption inquiry, stated that it had no shipments. For one company, Shantou SEZ, the Department's request was undeliverable. Yancheng Foreign Trade and Shantou SEZ did not respond to the Department's questionnaires during the POR, and we are applying AFA to both companies, as discussed below in the “Application of Facts Available” section.

None of these companies provided any evidence, nor is there any other evidence on the record, that the unaffiliated purchasers of subject merchandise will ultimately pay the antidumping duties. We are applying AFA to all companies, as explained in the “Application of Facts Available” section below. Accordingly, based on the record, we cannot conclude that the unaffiliated purchaser in the United States will ultimately pay the assessed duty. Therefore, with respect to Qingdao Rirong, China Kingdom, and all exporters that are part of the PRC entity, we conclude that antidumping duties have been absorbed by the producer or exporter during the POR.

Analysis of Comments Received

All issues raised in the case and rebuttal briefs by parties to this administrative review are addressed in the Issues and Decision Memorandum from Barbara E. Tillman, Acting Deputy Assistant Secretary for Import Administration, Group III, to Joseph A. Spetrini, Acting Assistant Secretary for Import Administration: Issues and Decision Memorandum for the Final Results of the Antidumping Duty Administrative Review of Freshwater Crawfish Tail Meat from the People's Republic of China: September 1, 2000 through August 31, 2001, dated April 14, 2003 (Decision Memo), which is hereby adopted by this notice.

A list of the issues which parties have raised and to which we have responded, all of which are in the Decision Memo, is attached to this notice as an appendix. Parties can find a complete discussion of all issues raised in this review and the corresponding recommendations in this public memorandum, which is on file in the Central Records Unit, room B-099 of the main Commerce Building. In addition, a complete version of the Decision Memo can be accessed directly on the Web at http://ia.ita.doc.gov. The paper copy and electronic version of the Decision Memo are identical in content.

Changes Since the Preliminary Results

Based on our analysis of information obtained after the Preliminary Results from public sources and memorialized in the Affiliation Memo, comments thereon, information received from interested parties, and briefs and rebuttal briefs submitted by interested parties in response to the Preliminary Results, we have changed the margin for Qingdao Rirong. For these final results, we are basing the margin for Qingdao Rirong on AFA. For a discussion of this issue, refer to the Qingdao Rirong section under Application of Facts Available, below.

Application of Facts Available

• Fujian Pelagic, Shantou SEZ, Suqian Foreign Trade, Yancheng Foreign Trade, and Yangzhou Lakebest

The Department received no comments on its preliminary determination to apply facts available to Fujian Pelagic, Shantou SEZ, Suqian Foreign Trade, Yancheng Foreign Trade, and Yangzhou Lakebest. Therefore, we have not altered our decision to apply total AFA to these companies for these final results, in accordance with sections 776(a)(2)(A) and (B), as well as section 776(b) of the Act. For a complete discussion of the Department's decision to apply total AFA, see Preliminary Results. Furthermore, Fujian Pelagic, Shantou SEZ, Suqian Foreign Trade, Yancheng Foreign Trade, and Yangzhou Lakebest did not establish that they are eligible for separate rates. As AFA, the Department is assigning these companies the PRC-wide rate of 223.01 percent the highest rate determined in any segment of this proceeding. See Freshwater Crawfish Tail Meat from the People's Republic of China; Notice of Final Results of Antidumping Duty Administrative Review, and Final Partial Rescission of Antidumping Duty Administrative Review, 67 FR 19546 (April 22, 2002). As discussed below, this rate has been corroborated.

• China Kingdom

In the Preliminary Results, we applied facts available to China Kingdom pursuant to sections 776(a)(2)(A) and (B) of the Act because it failed to provide total production and factors of production for the relevant POR in a timely manner. Furthermore, we used an adverse inference and applied AFA pursuant to section 776(b) of the Act because we determined that China Kingdom did not act to the best of its ability to comply with the Department's request for information and demonstrated a pattern of non-compliance by reporting figures for total tail meat production and eight factors of production for the wrong production period in all of its responses to the Department's questionnaires. For further details, see the Memorandum to Joseph A. Spetrini: Freshwater Crawfish Tail Meat from the People's Republic of China (PRC): Application of Total Adverse Facts Available for China Kingdom Import & Export Co., Ltd. in the Preliminary Results of the Administrative Review for the Period 9/1/00 - 8/31/01 (September 30, 2002) (China Kingdom AFA Memo). However, China Kingdom received a separate rate in the Preliminary Results, and this determination remains unchanged for these final results. After analyzing the comments received, we continue to find that the use of AFA is warranted for exports of subject merchandise to the United States by China Kingdom in these final results. For a complete discussion, see the Decision Memo, at Comment 7. As adverse facts available, the Department is assigning China Kingdom the rate of 223.01 percent the highest rate determined in any segment of this proceeding. As discussed further below, this rate has been corroborated.

• Qingdao Zhengri/Yancheng Yaou

In the Preliminary Results, we applied facts available to Qingdao Zhengri/Yancheng Yaou pursuant to section 776(a)(2)(D) of the Act because this entity refused to participate fully in verification. Furthermore, we applied AFA pursuant to section 776(b) of the Act because we determined that Qingdao Zhengri/Yancheng Yaou did not act to the best of its ability to comply with the Department's request to verify, because of contradictory responses submitted to the Department, and because it provided certifications that the Department determined to be inaccurate. For further details, see the Memorandum from Jacqueline Arrowsmith to Joseph A. Spetrini: Freshwater Crawfish Tail Meat from the People's Republic of China (PRC): Application of Total Adverse Facts Available for Qingdao Zhengri Seafood Co., Ltd. and Yancheng Yaou Seafood Co., Ltd. in the Preliminary Results of the Administrative Review for the Period September 1, 2000 through August 31, 2001, dated September 23, 2002. After analyzing the comments received, we continue to apply AFA to Qingdao Zhengri/Yancheng Yaou in these final results. For details, see the Decision Memo at Comment 6. Furthermore, because the respondent refused to participate fully in verification, the Department did not have an opportunity to verify separate rate information submitted by Qingdao Zhengri/Yancheng Yaou. Consequently, Qingdao Zhengri/Yancheng Yaou is not entitled to a separate rate in these final results. As adverse facts available, the Department is assigning Qingdao Zhengri/Yancheng Yaou the rate of 223.01 percent the highest rate determined in any segment of this proceeding. As discussed further below, this rate has been corroborated.

• Qingdao Rirong

As discussed in detail in the Qingdao Rirong Memo, we determine that, in accordance with section 776(a)(2)(A), the use of facts otherwise available is warranted in reaching these final results. Furthermore, in accordance with section 776(b) of the Act, and for the reasons discussed below, the Department is applying an inference that is adverse to the interests of Qingdao Rirong in selecting from among the facts otherwise available.

Throughout the course of this administrative review, Qingdao Rirong reported that it made U.S. sales, on an EP basis, to an unaffiliated U.S. importer. In the Preliminary Results, the Department treated all of Qingdao Rirong's U.S. sales as EP sales.

Subsequent to the publication of its Preliminary Results, the Department continued to examine the issue of a possible relationship between Qingdao Rirong and its importer. Through research into public records, the Department found previously unreported information concerning the relationship between Qingdao Rirong and Y&Z. Much of this information conflicted with information previously reported to the Department by Qingdao Rirong. This prompted the Department to issue another supplemental questionnaire to Qingdao Rirong on October 24, 2002, and to perform further research on its own. After an analysis of all information on the record concerning the relationship between Qingdao Rirong and Y&Z, the Department determined that, at least through December 16, 2002, Qingdao Rirong was affiliated with its importer, under section 771(33) of the Act. See Affiliation Memo. On January 2, 2003, the Department released the Affiliation Memo to all parties, along with a cover letter in which the Department took the additional step of soliciting, from all parties, initial and rebuttal comments on the information and findings contained within the Affiliation Memo. Subsequently, the Department took the extraordinary step of accepting new information from Qingdao Rirong, rebutting or clarifying the information and findings contained within the Affiliation Memo, as well as new information from the Domestic Interested Parties, rebutting information contained within Qingdao Rirong's comments on Affiliation Memo.

After further analysis and consideration of all evidence on the record, the Department has concluded that there is substantial evidence demonstrating Qingdao Rirong and its importer are affiliated in accordance with section 771(33) of the Act. Furthermore, the Department has concluded that the evidence of affiliation on the record outweighs the evidence and arguments provided by Qingdao Rirong in support of its argument that it is not affiliated with its importer. See Qingdao Rirong Memo. The Department therefore continues to find that Qingdao Rirong and its importer were both owned and controlled by a common party, and as such, are “affiliated persons” within the meaning of section 771(33) of the Act, through the POR of this administrative review, and at least until December 16, 2002.

Section 776(a)(2)(A) of the Act provides for the use of facts available when an interested party withholds information that has been requested by the Department. As discussed in detail in the Qingdao Rirong Memo, Qingdao Rirong withheld essential information concerning the relationship between itself and its importer. Because of this, Qingdao Rirong made it impossible for the Department to perform a timely analysis of the nature of the relationship between Qingdao Rirong and its importer.

Section 782(d) of the Act provides that if the Department determines that a response to a request for information does not comply with the request, the Department shall promptly inform the person submitting the response of the nature of the deficiency, and shall, to the extent practicable, provide that person with an opportunity to remedy or explain the deficiency in light of the time limits established for the completion of the administrative review. Accordingly, and despite the time constraints prescribed by section 351.213(h)(1) of the Department's regulations, when the Department discovered, through its own independent research, that Qingdao Rirong's responses were deficient with respect to information concerning the relationship between Qingdao Rirong and its importer, the Department issued another supplemental questionnaire on October 24, 2002, affording Qingdao Rirong an opportunity to explain the deficiency. The Department also gave Qingdao Rirong an opportunity to respond to its December 31, 2002 Affiliation Memo.

In accordance with section 776(b) of the Act, we find that an adverse inference is warranted because Qingdao Rirong failed to cooperate to the best of its ability in complying with the Department's requests for information. Again, Qingdao Rirong withheld essential information concerning the relationship between itself and its importer, making it impossible for the Department to perform a timely analysis of the nature of the relationship between Qingdao Rirong and its importer, and similarly impossible for the Department to timely determine whether its dumping analysis should have been based on a comparison of NV to EP or CEP.

Information concerning the relationship between an exporter and its importer is fundamental to the Department's antidumping analysis. In order to determine whether dumping has occurred, an EP or CEP (as defined in section 772 of the Act and section 351.401 of the Department's regulations) is compared to an NV (as defined in section 773 of the Act and section 351.401 of the Department's regulations). EP means “the price at which the subject merchandise is first sold (or agreed to be sold) before the date of importation by the producer or exporter of the subject merchandise outside of the United States to an unaffiliated purchaser in the United States,” while CEP means “the price at which the subject merchandise is first sold (or agreed to be sold) in the United States before or after the date of importation by or for the account of the producer or exporter of such merchandise or by a seller affiliated with the producer or exporter, to a purchaser not affiliated with the producer or exporter . . ..” See sections 772(a) and (b) of the Act. Thus, to determine whether its dumping analysis should be based on a comparison of NV to EP, or NV to CEP, the Department must first determine whether Qingdao Rirong and Y&Z are affiliated under section 771(33) of the Act.

Since the Department has not been provided with complete U.S. sales information concerning Qingdao Rirong's sales to the first unaffiliated purchaser, the Department is precluded from calculating an accurate dumping margin. Since Qingdao Rirong only reported data concerning its transactions with its importer, the Department does not possess data necessary for calculating an accurate dumping margin. This data includes the sales prices to Qingdao Rirong's first unaffiliated purchaser(s), and may include numerous other U.S. expenses (e.g., U.S. inland shipping, insurance, and re-packing costs). The Department has no way of knowing what the prices to the first unaffiliated customers were, what expenses were incurred, nor even who Qingdao Rirong's first unaffiliated customers were.

Given that this is the third time Qingdao Rirong has been reviewed, the company should have been able to comply with the Department's requests for information in an accurate and timely manner. Furthermore, given that the owner of Qingdao Rirong was also the incorporator, president, chief executive officer, and an owner of the importer, information concerning the sales of each company, the history and ownership of these two companies, as well as the history of the owner's involvement with each company, would have been readily available to both the owner and his company, Qingdao Rirong. Finally, Qingdao Rirong never indicated that it was having any difficulty obtaining any requested information, or in understanding the Department's requests.

Qingdao Rirong gave insufficient attention to its statutory duties, beyond mere inadvertence, by virtue of its failure to provide requested information that is essential to the Department's dumping analysis. As noted above, this is the third review of Qingdao Rirong; as such, the company should have been fully aware of its statutory duties in this regard. Furthermore, the Department requested information relevant to the relationship between Qingdao Rirong and Y&Z in several different questionnaires, issued both prior and subsequent to the Preliminary Results. Thus, Qingdao Rirong had multiple opportunities to fulfill its statutory duty to provide such information. Finally, we note that, if a respondent has any question as to the scope of what may be relevant to the Department's analysis of the relationship between a seller and purchaser, that respondent need only contact the Department for clarification, or review the definition of “affiliated persons,” contained in Appendix I to the Department's initial questionnaire issued at the beginning of each review. In light of the aforementioned facts, Qingdao Rirong's failures to provide complete information concerning the relationship between Qingdao Rirong and Y&Z, amount to a pattern of behavior of repeatedly withholding information requested by the Department.

For the reasons described above and in further detail in the Qingdao Rirong Memo, we conclude that Qingdao Rirong failed to cooperate to the best of its ability within the meaning of 776(b) of the Act, and that the application of total adverse facts available for Qingdao Rirong is warranted. Qingdao Rirong received a separate rate in the Preliminary Results, and this determination remains unchanged for these final results. As adverse facts available, the Department is assigning Qingdao Rirong the rate of 223.01 percent the highest rate determined in any segment of this proceeding. See Qingdao Rirong Memo. As discussed further below, this rate has been corroborated.

Corroboration of Secondary Information Used As AFA

Section 776(c) of the Act provides that when the Department relies on the facts otherwise available and relies on “secondary information,” the Department shall, to the extent practicable, corroborate that information from independent sources reasonably at the Department's disposal. The Statement of Administrative Action, H.R. Doc. 103-316 (SAA), states that “corroborate” means to determine that the information used has probative value. See SAA at 870. To corroborate secondary information, the Department will, to the extent practicable, examine the reliability and relevance of the information to be used.

With respect to Qingdao Rirong, China Kingdom, Fujian Pelagic, Qingdao Zhengri/Yancheng Yaou, Shantou SEZ, Suqian Foreign Trade, Yancheng Foreign Trade, and Yangzhou Lakebest, we are applying as AFA the highest rate from any segment of this administrative proceeding, which is a rate calculated in the 1999-2000 review. See Final Results of Antidumping Duty Administrative Review, and Final Partial Rescission of Antidumping Duty Administrative Review, 67 FR 19546 (April 22, 2002). However, unlike other types of information, such as input costs or selling expenses, there are no independent sources for calculated dumping margins. The only source for calculated margins is administrative determinations. Thus, in an administrative review, if the Department chooses as total adverse facts available a calculated dumping margin from the current or a prior segment of the proceeding, it is not necessary to question the reliability of the margin for that time period. See, e.g., Grain-Oriented Electrical Steel From Italy; Preliminary Results of Antidumping Duty Administrative Review, 61 FR 36551, 36552 (July 11, 1996). With respect to the relevance aspect of corroboration, however, the Department will consider information reasonably at its disposal to determine whether a margin continues to have relevance. Where circumstances indicate that the selected margin is not appropriate as adverse facts available, the Department will disregard the margin and determine an appropriate margin. For example, in Fresh Cut Flowers from Mexico: Final Results of Antidumping Administrative Review, 61 FR 6812 (February 22, 1996), the Department disregarded the highest margin in that case as adverse best information available (the predecessor to facts available) because the margin was based on another company's uncharacteristic business expense resulting in an unusually high margin. Similarly, the Department does not apply a margin that has been discredited. See D & L Supply Co. v. United States, 113 F.3d 1220, 1221 (Fed. Cir. 1997) (the Department will not use a margin that has been judicially invalidated). None of these unusual circumstances are present here.

Accordingly, we determine that the highest rate from any segment of this administrative proceeding (i.e., the calculated rate of 223.01 percent, which is the current PRC-wide rate) is in accord with section 776(c)'s requirement that secondary information be corroborated (i.e., that it have probative value). The information used in calculating this margin was based on sales and production data of a respondent in a prior review, together with the most appropriate surrogate value information available to the Department, chosen from submissions by the parties in that review, as well as gathered by the Department itself. Furthermore, the calculation of this margin was subject to comment from interested parties in the proceeding. See Freshwater Crawfish Tail Meat from the People's Republic of China; Notice of Final Results of Antidumping Duty Administrative Review, and Final Partial Rescission of Antidumping Duty Administrative Review, 67 FR 19546 (April 22, 2002). Moreover, as there is no information on the record of this review that demonstrates that this rate is not appropriately used as adverse facts available for Qingdao Rirong, China Kingdom, Fujian Pelagic, Qingdao Zhengri/Yancheng Yaou, Shantou SEZ, Suqian Foreign Trade, Yancheng Foreign Trade, and Yangzhou Lakebest, we determine that this rate has probative value.

Final Results of Review

For these final results we determine that the following dumping margins exist:

Manufacturer/Exporter | Time Period | Margin (percent)
Qingdao Rirong | 9/1/00-8/31/01 | 223.01
China Kingdom | 9/1/00-8/31/01 | 223.01
PRC-Wide Rate¹ | 9/1/00-8/31/01 | 223.01
¹ Fujian Pelagic, Qingdao Zhengri/Yancheng Yaou, Shantou SEZ, Suqian Foreign Trade, Yancheng Foreign Trade, and Yangzhou Lakebest are included in the PRC-wide rate.

Assessment of Antidumping Duties

Upon completion of this administrative review, the Department shall determine, and the U.S. Customs Service shall assess, antidumping duties on all appropriate entries. For assessment purposes, for China Kingdom, Qingdao Rirong, and all exporters subject to the PRC-wide rate, we will direct Customs to assess the ad valorem rates against the entered value of each entry of the subject merchandise during the POR. The Department will issue appropriate assessment instructions directly to the Customs Service within 15 days of publication of the final results of review.

Cash Deposit Requirements

The following deposit requirements will be effective upon publication of these final results for this administrative review for all shipments of freshwater crawfish tail meat from the PRC entered, or withdrawn from warehouse, for consumption on or after the date of publication, as provided by section 751(a)(2)(C) of the Act: (1) The cash deposit rate for the reviewed companies will be the rate established above; (2) for previously-reviewed PRC and non-PRC exporters with separate rates, the cash deposit rate will be the company-specific rate established for the most recent period; (3) for all other PRC exporters, the cash deposit rate will be the PRC-wide rate, 223.01 percent; and (4) for all other non-PRC exporters of the subject merchandise, the cash deposit rate will be the rate applicable to the PRC exporter that supplied that non-PRC exporter. These deposit requirements shall remain in effect until publication of the final results of the next administrative review.

Notification to Importers

This notice serves as a final reminder to importers of their responsibility under section 351.402(f) of the Department's regulations to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(1) and 777(i)(1) of the Act.

Dated: April 14, 2003.
Joseph A. Spetrini,
Acting Assistant Secretary for Import Administration.

APPENDIX

List of Issues

Comment 1: Valuation of the raw crawfish input

Comment 2: Cash deposit rates for producing and non-producing supplier combinations (Combination Rates)

Comment 3: Application of facts available to Qingdao Rirong Foodstuff Co., Ltd. (Qingdao Rirong) because it withheld information concerning its corporate affiliations

Comment 4: Application of facts available to Qingdao Rirong because it engaged in a pattern of noncompliance with regulations governing business proprietary information (BPI)

Comment 5: If Qingdao Rirong's margin is not based on adverse facts available, what should be used as partial facts available in calculating Qingdao Rirong's margin

Comment 6: Whether the Department improperly applied facts available to Yancheng Yaou Seafood Co., Ltd.

Comment 7: Application of Adverse Facts Available to China Kingdom Import & Export Co., Ltd. (China Kingdom)

[FR Doc. 03-9739 Filed 4-18-02; 8:45 am]

BILLING CODE 3510-DS-S